DEPARTMENT OF COMMERCE

National Oceanic and Atmospheric Administration

50 CFR Part 660

[I.D. 050101D]

RIN 0648-Al50

Fisheries off West Coast States and in the Western Pacific; Pacific Coast Groundfish Fishery; Amendment 14

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 14 to the Pacific Coast Groundfish Fishery Management Plan (FMP) for Secretarial review. Amendment 14 would implement a permit stacking program for limited entry permits with sablefish endorsements. This permit stacking program would lengthen the limited entry, fixed gear primary sablefish fishery. It is intended to increase safety in that fishery and provide flexibility to participants. The permit stacking program would also associate sablefish cumulative limits with permits, rather than with vessels, so that a single vessel could carry multiple permits and harvest multiple sablefish cumulative limits during the primary sablefish fishery.

DATES: Comments on Amendment 14 must be received on or before July 9, 2001.

ADDRESSES: Comments on Amendment 14 or supporting documents should be sent to Donna Darm, Acting Administrator, Northwest Region, NMFS, Sand Point Way NE., BIN C15700, Seattle, WA 98115-0070; or to Rebecca Lent, Administrator, Southwest Region, NMFS, 501 West Ocean Boulevard, Suite 4200, Long Beach, CA 90802-4213.

Copies of Amendment 14 and the environmental assessment/ regulatory impact review (EA/RIR) are available from Donald McIsaac, Executive Director, Pacific Fishery Management Council, 2130 SW Fifth Ave., Suite 224, Portland, OR 97201.

FOR FURTHER INFORMATION CONTACT: Yvonne deReynier or Becky Renko (Northwest Region, NMFS), phone: 206-526-6140; fax: 206-526-6736 and; e-mail: yvonne.dereynier@noaa.gov, becky.renko@noaa.gov or Svein Fougner (Southwest Region, NMFS) phone: 562-980-4000; fax: 562-980-4047 and; e-mail: svein.fougner@noaa.gov.

SUPPLEMENTARY INFORMATION:

Electronic Access

This Federal Registerdocument is also accessible via the Internet at the website of the Office of the Federal Register: <<http://www.access.gpo.gov/su-docs/aces/aces140.html.>>

The Magnuson-Stevens Fishery Conservation and Management Act (Magnuson-Stevens Act) requires that each regional fishery management council submit any FMP or plan amendment it prepares to NMFS for review and approval, disapproval, or partial approval. The Magnuson-Stevens Act also requires that NMFS, upon receiving an FMP or amendment, immediately publish a notification in the Federal Register that the FMP or amendment is available for public review and comment. NMFS will consider the public comments received during the comment period described here in determining whether to approve the FMP or amendment. Amendment 14 would expand on Amendment 9 to the FMP, which restricted participation in the limited entry, regular fixed gear fishery to permits that met historical landings qualifications. Permit holders who met the landings qualifications were issued sablefish endorsements. The regulations that implemented Amendment 9 require that vessels hold permits with sablefish endorsements to participate in the regular sablefish fishery. Under a 1998 rulemaking following Amendment 9, permits with sablefish endorsements were assigned to one of three tiers based on their landings histories. During the regular fishery, a vessel is allowed to fish up to the cumulative limit associated with its particular tier. Cumulative limits are graduated so that permits associated with higher historic landings are in tiers that receive higher cumulative landings limits for current fisheries.

Under the current FMP, cumulative limits are associated with vessels, which means that a vessel may land no more of a particular species than its cumulative limit for a given period. Amendment 14 would allow sablefish cumulative limits in the regular fishery to be associated with permits rather than vessels, and would allow a single vessel to carry multiple permits. As a result, a single vessel could land multiple cumulative limits of sablefish during the period of the regular fishery. Allowing vessels to “stack” permits to harvest multiple cumulative limits of sablefish is expected to improve fleet efficiency by reducing the number of vessels participating in the fishery. Pub. L. 106-554 has also granted this fishery exemption from the ongoing Magnuson-Stevens Act moratorium on implementing new individual quota programs to allow the Council to set a season of several months duration. For the past several years, the regular fishery has been brief, 5-10 days duration. Amendment 14 is intended to take advantage of this new exemption from Congress to improve the safety of this derby fishery by giving participants sufficient time to fully harvest their cumulative limits.

Public comments on Amendment 14 must be received by July 9, 2001, to be considered by NMFS in the decision whether to approve Amendment 14. A proposed rule to implement Amendment 14 has been submitted for Secretarial review and approval. NMFS expects to publish and request public comment on the proposed regulations to implement Amendment 14 in the near future.

Authority: 16 U.S.C. 1801 et seq.

Dated: May 3, 2001.
Bruce C. Morehead,
Acting Director, Office of Sustainable Fisheries, National Marine Fisheries Service.

[FR Doc. 01-11700 Filed 5-8-01; 8:45 am]

BILLING CODE 3510-22-S